DEPARTMENT OF HEALTH AND HUMAN SERVICES

Centers for Disease Control and Prevention

[60Day-04-60]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333 or send an e-mail to omb@cdc.gov. Written comments should be received within 60 days of this notice.

Proposed Project

Control of Communicable Diseases: Restrictions on African Rodents, Prairie Dogs, and certain other Animals (OMB 0920-0615)—Reinstatement—National Center for Infectious Diseases (NCID), Centers for Disease Control and Prevention (CDC).

Section 361 of the Public Health Service (PHS) Act, [42 U.S.C. 264], authorizes the Secretary of Health and Human Services to make regulations necessary to prevent the introduction, transmission, or spread of communicable diseases from foreign countries into the United States. Existing regulations governing quarantine activities [42 CFR 71.54] provide for the issuance of permits by the Director, Centers for Disease Control and Prevention (CDC), for the importation of any animal host or vector of human disease, or any other animal capable of being a host or vector of human disease, contingent upon the importers meeting certain application and disease control requirements, to be established by the Director (OMB# 0920-0199).

In 2003, individuals in the United States began contracting monkeypox, and very likely as a result of contact with prairie dogs that had contracted monkeypox from diseased African rodents. Investigations indicated that a Texas animal distributor imported a shipment of approximately 800 small mammals from Ghana on April 9, 2003, and that shipment contained 762 African rodents, including rope squirrels (Funiscuirus sp.), tree squirrels (Heliosciurus sp.), Gambian giant rats (Cricetomys sp.), brushtail porcupines (Atherurus sp.), dormice (Graphiurus sp.), and striped mice (Hybomys sp.). Some animals were infected with monkeypox, and CDC laboratory testing confirmed the presence of monkeypox in several rodent species.

On June 11, 2003, the Director of CDC and the Commissioner of the Food and Drug Administration (FDA) issued a joint order prohibiting, until further notice, the transportation or offering for transportation in interstate commerce, or the sale, offering for sale, or offering for any other type of commercial or public distribution, including release into the environment, of:

• Prairie dogs (Cynomys sp.);

• Tree squirrels (Heliosciurus sp.);

• Rope squirrels (Funisciurus sp.);

• Dormice (Graphiurus sp.);

• Gambian giant pouched rats (Cricetomys sp.);

• Brush-tailed porcupines (Atherurus sp.), and

• Striped mice (Hybomys sp.).

In addition, CDC implemented an immediate embargo on the importation of all rodents from Africa (order Rodentia). On Nov. 4, 2003, the Department of Health and Human Services (the Food and Drug Administration (FDA) and CDC) promulgated an Interim Final Rule (IFR) restricting the importation of African rodents (42 CFR 71.56) and restricting domestic trade in certain African rodents and domestic prairie dogs (21 CFR 1240.63) (see 68 FR 62353). This interim final rule supersedes the June 11, 2003, order.

Under § 71.56(a) (2), prospective importers must submit a proposed import plan to CDC if they wish to import the specific rodents and rodent products covered by this rule. The plan must address disease prevention procedures to be carried out in every step of the chain of custody of such rodents, from embarkation in the country of origin to release from quarantine (if required). Information such as species, origin and intended use for the rodents and/or rodent products, transit information, isolation and quarantine (if required) procedures, and procedures for testing of quarantined animals is necessary for CDC to make public health decisions. This information enables CDC to evaluate compliance with the standards and determine whether the measures being taken to prevent exposure of persons and animals during importation are adequate.

The burden imposed by this permit application is based on the estimated amount of time needed to perform the requirement multiplied by the number of responses. Five (5) respondents are estimated to submit an average of 2 responses each. Respondents operating with established permits would normally need less time to make submissions (30 minutes per response); new permit holders, estimated to be 7 in number, would each make no more than 1 full submission. All remaining submissions would be itinerary and/or change information only (10 minutes per response). The estimated total annual burden is 10 hours. There is no cost to respondents.

Respondents | No. of respondents | No. of responses/respondent | Average burden/response (in hours) | Total burden in hours
Individuals | 2 | 1 | 30/60 | 1
Businesses | 5 | 1 | 30/60 | 3
Organizations—initial request | 5 | 1 | 1 | 5
Organizations—subsequent request | 5 | 1 | 10/60 | 1
Total | 12 |  |  | 10

Dated: May 27, 2004.
Alvin Hall,
Director, Management Analysis and Services Office, Centers for Disease Control and Prevention.

[FR Doc. 04-12568 Filed 6-2-04; 8:45 am]

BILLING CODE 4163-18-P